DEPARTMENT OF HEALTH AND HUMAN SERVICES

Administration on Aging

2005 White House Conference on Aging

AGENCY: Administration on Aging, HHS.

ACTION: Notice of meeting and final Annotated Agenda.

SUMMARY: Pursuant to section 10(a) of the Federal Advisory Committee Act as amended (5 U.S.C. Appendix 2), notice is hereby given of the 2005 White House Conference on Aging (WHCoA) meeting in December 2005 and the final Annotated Agenda for the 2005 WHCoA. The Policy Committee approved this final Annotated Agenda during a meeting held by conference call on November 3, 2005. The Annotated Agenda covers six broad areas that reflect major issues facing older individuals now and for the next 10 years.

The 2005 WHCoA will be open to the public. Individuals who wish to attend should call or email the contact person listed below in advance of the meeting and inform her of the day they wish to attend; since space for the public is limited, attendance will be on a first come first-served basis. Individuals who need special assistance, such as sign language interpretation or other reasonable accommodations, should inform the contact person of the type of assistance that is desired.

DATES: The 2005 White House Conference on Aging will take place from Sunday, December 11, 2005 to Wednesday, December 14, 2005.

ADDRESSES: The 2005 White House Conference on Aging will be held at the Marriott Wardman Park Hotel, 2660 Woodley Road, NW., Washington, DC 20008.

FOR FURTHER INFORMATION CONTACT: Rada Spencer at (301) 443-2496, or e-mail at Rada.Spencer@whcoa.gov.

SUPPLEMENTARY INFORMATION: Pursuant to the Older Americans Act Amendments of 2000 (Pub. L. 106-501, November 2000), the President will convene the White House Conference on Aging (WHCoA) not later than December 31, 2005. Specifically, the statute requires that the WHCoA shall gather individuals representing the spectrum of thought and experience in the field of aging to develop not more than 50 recommendations to guide the President, Congress, and Federal agencies in serving older individuals. The 2005 WHCoA will be held at the Marriott Wardman Park Hotel in Washington, DC from Sunday, December 11, 2005 to Wednesday, December 14, 2005. During its open meeting on October 1, 2004, the Policy Committee approved a proposed broad agenda, with the knowledge that work would continue on the Annotated Agenda. The broad agenda focused on six areas: Planning for the Future, Employment, Our Community, Health and Long-Term Living, Social Engagement, and Marketplace, and it was placed on the WHCoA Web site at http://www.whcoa.gov for public comment. The Policy Committee received comments from testimony and reports submitted from over 400 Listening Sessions, Solutions Forums, Mini-Conferences, and Independent Aging Agenda Events held and attended by approximately 130,000 individuals, as well as from unsolicited public comments to refine the proposed Annotated Agenda. Section 202 (b)(1) of the statute requires that the agenda for the WHCoA shall be published in the Federal Register not later than 30 days after the agenda is approved by the Policy Committee. The Policy Committee approved the final Annotated Agenda, dated November 3, 2005, during a meeting held by conference call on November 3, 2005. The six broad areas have been refined to read: (1) Planning Along the Lifespan, (2) The Workplace of the Future, (3) Our Community, (4) Health and Long-Term Living, (5) Civic Engagement and Social Engagement and (6) Technology and Innovation in an Emerging Senior/Boomer Marketplace. The entire text of the final Annotated Agenda is published as an Appendix to this notice.

Dated: November 23, 2005.
Edwin L. Walker,
Deputy Assistant Secretary for Policy and Programs.

Appendix 1—2005 White House Conference on Aging Annotated Agenda** Final—November 3, 2005

I. Planning Along the Lifespan

Social Security, pensions, savings, and wages each serve an important role in ensuring financial security in retirement. A cornerstone of achieving financial security in retirement is planning throughout a lifetime. Effective savings incentives and financial education are essential planning tools. Starting to save for retirement as early as possible ensures the miracle of compound interest, and provides optimum leverage. However, accumulating savings by itself does not guarantee a secure retirement. Managing those assets through longer and longer lifespans is also a key component. Americans must plan and prepare for the risk of having assets depleted because of a long term care episode or other financial crisis. Moreover, retirees must guard against becoming victims of financial fraud and exploitation. Enhanced financial literacy will help enable Americans to guard against risks and plan appropriately to achieve financial security in retirement.

A. Economic Incentives To Increase Retirement Savings

1. Individual savings; employer-based pension programs

B. Social Security Programs Now and for the Future

1. Principles to protect and strengthen Social Security

C. Protection from Catastrophic Loss

1. Long term care expenses, and ways to assist Baby Boomers and families in understanding the need to finance long-term care, through insurance and other options

2. Preventing financial fraud, abuse and exploitation: an integral part of elder and Boomer financial security

D. Financial Literacy Throughout the Life Cycle

1. Financial literacy to assist Americans in learning to start saving early and to manage assets to last through longer and longer retirements

II. The Workplace of the Future

For many decades, there has been a younger workforce on the heels of those planning to retire. With declining birthrates those demographics will change dramatically and will have a tremendous impact on the workplace of the future. In addition, Americans are living longer which means they will need more assets for longer retirements or will need to work longer so that retirement assets last a lifetime. These two factors mean the workforce of the future will have to be thought about differently. Because the workforce is shrinking, older workers will be valuable members of the job bank of the future and, older workers will need the income that working longer will provide in order to fund their retirements. To ensure that employers have the workforce they need and to provide workers with opportunities to stay in the workforce, incentives will be needed to encourage employers to retain older workers and to encourage workers to stay in the workforce. Phased retirement offered ad hoc to a few employees today must be encouraged for the benefit of the employer and employee. Strategies for overcoming current unintended barriers to reaching these goals will be an important aspect of this Agenda item. Assistive technologies are another important component of helping workers remain in the workforce.

A. Opportunities for Older Workers

1. Employer incentives for retaining older workers and current disincentives that prevent employers from retaining older workers

2. Worker incentives to remain in the workforce and current disincentives to working longer

3. Phased retirement as an opportunity for the employee who wants to retire gradually and for the employer who wants to retain older workers

4. Assistive technology to help workers remain in the workforce

5. Strategies to prevent ageism/age discrimination from affecting opportunities for older workers

III. Our Community

Safety, independence, access to a social network, and support by family and informal caregivers, as needed, are important components of a livable community and “aging in place” for older Americans. Aging in place means being able to grow older in the community of one's choosing with continued access to needed social and health support services. Many Baby Boomer parents left urban residences after World War II for suburban homes and now face living in an area where services are less accessible, especially to those who no longer drive. Some possible solutions include better coordination between public health, transportation, and aging networks, better information management systems, and helping older Americans drive safely longer, and providing additional transportation options for those who no longer can or wish to drive. Longer term solutions include building higher density neighborhoods which allow safe and convenient pedestrian access to services, better public transportation, and other transportation options. Additionally, resources and information must be readily obtainable especially during and after emergencies or disasters. Emergency preparedness and response must be given greater emphasis especially as it relates to those older individuals who face mobility challenges. Improved information management systems and coordination between health, social service, law enforcement, and other networks are especially critical in times of emergencies or disasters.

A. Coordinated Social and Health Services That Give the Elderly the Maximum Opportunity To Age in Place

1. Availability of community referral resources

2. Configuration of Senior Centers to appeal to the next generation of senior citizens

3. Coordination between health and aging networks

4. Accommodation of the differences between the Baby Boomer aging population and previous generations of the elderly

5. Emergency/disaster preparedness and response as it relates to older persons

B. Promote Support for Both Family and Informal Caregivers That Enables Adequate Quality and Supply of Services

1. Caregiver support: training, respite, information, referral, and needs assessment for family caregivers. Training and financial support for paid caregivers

C. Livable Communities That Enable the Elderly To Age in Place

1. Senior-friendly community and residential design

2. Protection from neglect and physical abuse

3. Senior-friendly roads designed to keep older drivers on the road, safely

4. Housing affordability and availability

5. Alternative modes of transportation

6. Expanded use of public transportation

IV. Health and Long Term Living

Americans are living longer. That ever increasing life span, combined with the significant increase in the population reaching age 65, as the Baby Boomers age, will be major factors in shaping health care policy for the next ten years and beyond. The entire spectrum of health care, physical and mental health, will be impacted by these two factors. Personal responsibility for life style choices and adherence to preventive care protocols are more important than ever in decreasing or eliminating the negative impact of preventable illnesses. When acute or chronic illnesses do occur, the issue of access to appropriate medical and mental health services will also need to address issues of coordination of care across multiple settings and continuity of care over time. Living longer while afflicted with chronic illnesses will also require attention to choices that maximize function, quality of life, and independence in the living environment of choice for the individual.

Research, particularly more focused on issues associated with aging, and the widespread dissemination and adoption of the information that the research reveals, will be a major contributor to the quality of health care. Quality in health care includes addressing issues of health disparities, cultural competencies, language barriers, health literacy, and patient safety. The concept of health is not the sole responsibility of the individual and the formal health care system, but it also includes the support provided by the aging network, multiple community organizations, improved information management systems, and the opportunity for meaningful social engagement. Issues of health care education of the population, in order to be integrally involved in heath care decisions and a health care workforce, sufficient in numbers and appropriately trained to address the special needs of the population are necessary ingredients for the success of any policy that is adopted.

A. Access to Affordable, High Quality Services

1. Development of a comprehensive, coordinated long term care strategy across the continuum of care, including benefits, living wills, end-of-life care, and health measures (in conjunction with Planning Along the Lifespan long term care issues)

2. Connecting evidence-based and comparative-based research with delivery of care

3. Aligning payment policies with the continuum of care

B. Healthy Lifestyles, Prevention, and Disease Management

1. Prevention: Education and lifestyle modifications

2. Disease management programs

3. Appropriate treatment for and education on alcohol and substance abuse and mental health

4. Provider and consumer education about disease prevention and mental health

C. Delivery of Quality Care and Promotion of Maximum Independence for Individuals With Chronic Conditions

1. Ensuring existence of a reliable, adequately trained, and culturally competent workforce

2. Providing maximum independence and non-institutional care

3. Ensuring appropriate care for seniors with disabilities

4. Addressing the shortage of paid workers for elder care and services

D. Use of Information To Improve All Health Care Services

1. Resources to make informed health care decisions

2. Medical research on aging issues

3. Appropriate use of health information technology

4. Sharing client information across multiple management systems

E. Affordable, Defined Health Benefits, Including Mental Health Benefits, Through Medicare, Medicaid, and Other Federal and State Health Care Programs

1. Ensuring adequate access to State and Federal health care programs

V. Civic Engagement and Social Engagement

Social engagement is crucial to the physical and psychological well-being of elderly citizens. Being engaged in such activity is important for older persons in maintaining physical vigor and for getting the type of social interaction and mental stimulation necessary to continue living a full, robust life. It is an equally important way in which senior citizens can contribute to their communities. There are a wide range of available activities that may be helpful individually, to other citizens and more generally, to sustain the quality of civic life. There are opportunities for volunteers in hospitals, schools, and museums, and with religious and service organizations, as well as in many other non-institutional settings. Key questions to be addressed regarding Baby Boomers as they age are what will be their level of participation in volunteerism, what types of activities will attract them, and how to remove barriers that prevent older Americans from volunteering in their communities.

A. Integration of the Elderly With the Non-Elderly Community

1. Strategies for changing attitudes toward aging/intergenerational dynamics

2. Creation of Baby Boomer volunteer opportunities

3. Promoting expanded opportunities for companionship and leisure to reduce isolation and loneliness

B. Effective Individual Adaptation to the Conditions of Aging

1. Increasing physical activity among the elderly

2. Continuing higher education for the older learner, including computer literacy training

VI. Technology and Innovation in an Emerging Senior/Boomer Marketplace

There are an increasing number of new products and operational practices that intend to help the elderly cope with challenges that affect their mobility, independence, and quality of life. They include personal mobility and communication devices, housing and vehicle design, and pharmaceutical advances. Some of these are beginning to be marketed and others are in development. But some with potentially dramatic impacts on older persons, and the rest of the population, are completely unknown. For example, at the 1981 White House Conference, would it have been predicted that by 2005, cell phones, the Internet, or CDs and DVDs would be in such common use? Over the next 20 years as Baby Boomers comprise the large majority of the elderly population, the marketplace affecting them will change in ways that will make their lives easier but may in other ways, make their lives more complicated.

A. Promoting New Products, Technology and New Ways of Marketing That Will Be Helpful/Useful to the Older Consumer

1. Developing creative products to support independence

2. Creating awareness of available technologies

3. Designing technology products that assist the broadest range of consumers

4. Assure the innovative and competitive leadership of American technology to meet rapidly-increasing global demand for aging-related products and services

5. Establishing a public, private and intergovernmental partnership to harmonize the patchwork of different Federal, State, and local policies, rules, regulations, standards, and codes that complicate and sometimes impede demand for and distribution of technology products and services

6. Assuring rational technology policies that stimulate innovation and investment

**Cross cutting issues: Issue development should include consideration of differences among the following variables: socio-economic, disability/non-disability, rural/urban, minority, cultural, linguistic competencies/literacy, age cohort (e.g., 55-65, 65-75, 75-85, 85+), and global aging. It should also include consideration of strategies for changing attitudes toward aging. Research intending to increase the ability to cope with the conditions of aging and best practices should be identified.

Appendix 2—White House Conference on Aging Program Agenda

Saturday, December 10, 2005

6 p.m.-9 p.m. Conference Registration

Location: Just off hotel lobby

Sunday, December 11, 2005

10 a.m.-10 p.m. Conference Registration

Location: Just off hotel lobby

Pre-Conference Events

10 a.m.-12:30 p.m.

Get Involved: A White House Conference on Aging Service Project

Organized by the Corporation for National and Community Service and the Washington, DC Jewish Community Center.

A service project to help repair and weatherize a Washington, DC building that serves Latino seniors.

All delegates are invited to participate, but space is limited. To register as a volunteer for the event, call Lavinia Balaci at 202.777.3246 or e-mail lavinia@dcjj.org. 1:30 p.m.-4 p.m.

Healthy Living Celebration!!

Coordinator: President's Council on Physical Fitness

Presenters:

▪ Melissa Johnson, Executive Director, President's Council on Physical Fitness and Sports

▪ Mollie Katzen, renowned healthy cookbook author, “Moosewood Cookbook”

▪ Mark Zeug, Chairman, National Senior Games Association

▪ Dot Richardson, Olympian and Board Member, President's Council on Physical Fitness and Sports

Simultaneous Fitness Sessions:

▪ Ya-La Dancing

▪ Theraband

▪ Tai Chi

▪ Line Dancing

Fitness Recognition Ceremony

3:30 p.m.-5:30 p.m. BY INVITATION ONLY

Roundtable on Global Aging

Moderator: Richard Jackson, Ph.D.

Director, Global Aging Initiative

Center for Strategic and International Studies, Washington, DC

The 21st Century burgeons in a new era of global aging in industrialized and industrializing nations.

4 p.m.-6 p.m. Top 50 Resolution Voting

5:30 p.m.-6 p.m. Exhibition Hall Ribbon Cutting

Evening Welcoming Reception

Organized by the Corporation for National and Community Service

Monday, December 12, 2005

5:30 a.m.-7:30 a.m. Continental Breakfast Buffet

6 a.m.-Noon Conference Registration

Location: Just off Hotel Lobby

9 a.m.-10:30 a.m. Opening Plenary

11 a.m.-1 p.m. Top 50 Resolution Voting

Noon-1 p.m. Box Lunch

1 p.m.-5 p.m.

Presentation & Discussion of Policy Tracks

▪ Health and Long Term Living: The Honorable Mark McClellan, M.D., Ph.D., Administrator, Centers for Medicare and Medicaid Services

▪ Planning Along the Lifespan: The Honorable Hal Daub, J.D.

▪ Workplace of the Future: Ken Dychtwald, Ph.D., President, Age Wave

▪ Civic Engagement and Social Engagement, David Eisner, CEO, Corporation for National and Community Service

▪ Our Community (confirmation pending)

▪ Technology and Innovation in an Emerging Senior/Boomer Marketplace (confirmation pending)

5 p.m.-6:30 p.m. Final Opportunity to Vote for Top 50 Resolutions

7 p.m.-9 p.m. Networking Receptions

Tuesday, December 13, 2005

6:30 a.m.-8 a.m. Continental Breakfast Buffet

8:30 a.m.-11 a.m.

Morning Resolution Implementation Strategy Sessions (Facilitated)

▪ Planning Along the Lifespan

▪ Workplace of the Future

▪ Our Community

▪ Health and Long Term Living

▪ Civic Engagement and Social Engagement

▪ Technology and Innovation in an Emerging Senior/Boomer Marketplace

11 a.m.-Noon Box Lunch

Noon-2:30 p.m.

Afternoon Resolution Implementation Strategy Sessions (Facilitated)

▪ Planning Along the Lifespan

▪ Workplace of the Future

▪ Our Community

▪ Health and Long Term Living

▪ Civic Engagement and Social Engagement

▪ Technology and Innovation in an Emerging Senior/Boomer Marketplace

3 p.m.-5:30 p.m.

Afternoon Resolution Implementation Strategy Sessions (Facilitated)

▪ Planning Along the Lifespan

▪ Workplace of the Future

▪ Our Community

▪ Health and Long Term Living

▪ Civic Engagement and Social Engagement

▪ Technology and Innovation in an Emerging Senior/Boomer Marketplace

Dinner Plans Being Finalized

Wednesday, December 14, 2005

6:30 a.m.-8 a.m. Continental Breakfast Buffet

8:30 a.m.-1:30 p.m. Closing Plenary Session and Luncheon

[FR Doc. 05-23434 Filed 11-28-05; 8:45 am]

BILLING CODE 4154-01-P